DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended, (19 U.S.C. 1641) and the Customs Regulations (19 CFR 111.51), the following Customs broker licenses are cancelled without prejudice.

Name | License # | Issuing port
Roopa Mirchandani | 9890 | New York.
Lynne A. Palmitier | 13772 | Detroit.
Elsie M. Clark | 10280 | Los Angeles.
Allstates Customs Brokerage, Inc | 20638 | Atlanta.
Arzoon Global Commerce, Inc | 21283 | San Francisco.
Panta Enterprises, Inc | 14584 | Miami.
Associated Customhouse Brokers, Inc | 9706 | Miami.
James P. Cesped | 4581 | San Francisco.
Steve A. Ashline | 7054 | Champlain.
All-Ways Customs Broker, Inc | 20131 | Miami.
Marialuisa Yoshikawa | 10998 | San Francisco.
2nd Edison, Inc | 22315 | San Francisco.
Harry S. Sanders | 9716 | New York.
Barbara A. Elibay | 6095 | Savannah.

Dated: May 15, 2006.
Jayson P. Ahern,
Assistant Commissioner, Office of Field Operations.

[FR Doc. E6-7724 Filed 5-19-06; 8:45 am]

BILLING CODE 9111-14-P